FEDERAL COMMUNICATIONS COMMISSION

47 CFR Part 79

[CG Docket No. 05-231; FCC 16-17]

Closed Captioning of Video Programming; Telecommunications for the Deaf and Hard of Hearing, Inc., Petition for Rulemaking

AGENCY: Federal Communications Commission.

ACTION: Final rule; announcement of effective date.

SUMMARY: In this document, the Commission announces that the Office of Management and Budget (OMB) has approved, for a period of three years, the information collection associated with rules adopted in the Commission's document Closed Captioning of Video Programming; Telecommunications for the Deaf and Hard of Hearing, Inc., Petition for Rulemaking, Second Report and Order (Second Report and Order). This document is consistent with the Second Report and Order, which stated that the Commission would publish a document in the Federal Register announcing the effective date of those sections.

DATES: The stay on 47 CFR 79.1(g)(3) is lifted effective December 22, 2017. Title 47 CFR 79.1(g)(1) through (9) and (i)(1) through (2), and the removal of 47 CFR 79.1(j)(4), published at 81 FR 57473, August 23, 2016, are effective December 22, 2017.

FOR FURTHER INFORMATION CONTACT: Eliot Greenwald, Disability Rights Office, Consumer and Governmental Affairs Bureau, at (202) 418-2235, or email: Eliot.Greenwald@fcc.gov.

SUPPLEMENTARY INFORMATION: This document announces that, on December 4, 2017, OMB approved, for a period of three years, the information collection requirements contained in the Commission's Report and Order, FCC 16-17, published at 81 FR 57473, August 23, 2016. The OMB Control Number is 3060-0761. The Commission publishes this notification as an announcement of the effective date of the rules. If you have any comments on the burden estimates listed below, or how the Commission can improve the collections and reduce any burdens caused thereby, please contact Cathy Williams, Federal Communications Commission, Room 1-C823, 445 12th Street SW, Washington, DC 20554. Please include the OMB Control Number, 3060-0761, in your correspondence. The Commission will also accept your comments via the internet if you send them to PRA@fcc.gov.

To request materials in accessible formats for people with disabilities (Braille, large print, electronic files, audio format), send an email to fcc504@fcc.gov or call the Consumer and Governmental Affairs Bureau at (202) 418-0530 (voice), (844) 432-2275 (videophone), or (202) 418-0432 (TTY).

Synopsis

As required by the Paperwork Reduction Act of 1995 (44 U.S.C. 3507), the FCC is notifying the public that it received OMB approval on December 4, 2017, for the information collection requirements contained in 47 CFR 79.1(g)(1) through (9) and (i)(1) through (2), and the removal of 47 CFR 79.1(j)(4), published at 81 FR 57473, August 23, 2016. Title 47 CFR 79.1(i)(3), (j)(1), (k)(1)(iv), and (m) will become effective at a later time and the Commission will publish another document in the Federal Register announcing the effective date of those sections.

Under 5 CFR part 1320, an agency may not conduct or sponsor a collection of information unless it displays a current, valid OMB Control Number.

No person shall be subject to any penalty for failing to comply with a collection of information subject to the Paperwork Reduction Act that does not display a current, valid OMB Control Number. The OMB Control Number is 3060-0761.

The foregoing notice is required by the Paperwork Reduction Act of 1995, Public Law 104-13, October 1, 1995, and 44 U.S.C. 3507.

The total annual reporting burdens and costs for the respondents are as follows:

OMB Control Number: 3060-0761.

OMB Approval Date: December 4, 2017.

OMB Expiration Date: December 31, 2020.

Title: Section 79.1, Closed Captioning of Video Programming, CG Docket No. 05-231.

Form Number: N/A.

Type of Review: Revision of a currently approved collection.

Respondents: Business or other for-profit; Individuals or households; and Not-for-profit entities.

Number of Respondents and Responses: 59,995 respondents; 512,831 responses.

Estimated Time per Response: 0.25 (15 minutes) to 60 hours.

Frequency of Response: Annual reporting requirements; Third party disclosure requirement; Recordkeeping requirement.

Obligation to Respond: Required to obtain or retain benefits. The statutory authority for this obligation is found at section 713 of the Communications Act of 1934, as amended, 47 U.S.C. 613, and implemented at 47 CFR 79.1.

Total Annual Burden: 702,562 hours.

Total Annual Cost: $35,638,596.

Nature and Extent of Confidentiality: Confidentiality is an issue to the extent that individuals and households provide personally identifiable information, which is covered under the FCC's system of records notice (SORN), FCC/CGB-1, “Informal Complaints, Inquiries, and Requests for Dispute Assistance.” As required by the Privacy Act, 5 U.S.C. 552a, the Commission also published a SORN, FCC/CGB-1 “Informal Complaints, Inquiries, and Requests for Dispute Assistance” in the Federal Register on August 15, 2014, published at 79 FR 48152, which became effective on September 24, 2014.

Privacy Impact Assessment: Yes.

Needs and Uses: On February 19, 2016, the Commission adopted the Second Report and Order, amending its rules to allocate the responsibilities of VPDs and video programmers with respect to the provision and quality of closed captioning. The Commission took the following actions, among others:

(a) Revised the procedures for receiving, serving, and addressing television closed captioning complaints in accordance with a burden-shifting compliance model; and

(b) Established a compliance ladder for the Commission's television closed captioning quality requirements.

Federal Communications Commission.
Marlene H. Dortch,
Secretary, Office of the Secretary.

[FR Doc. 2017-27556 Filed 12-21-17; 8:45 am]

BILLING CODE 6712-01-P